DEPARTMENT OF ENERGY

Federal Energy Regulatory Commission

[Project No. 14634-002]

New England Hydro Power Company, LLC; Notice of Conference Call

a. Date and Time of Meeting: June 3, 2020 at 10:00 a.m. Eastern Standard Time

b. FERC Contact: John Baummer at john.baummer@ferc.gov or (202) 502-6837

c. Purpose of Meeting: On May 14, 2020, New England Hydropower Company, LLC (NEHC) filed a letter requesting a meeting with Commission staff to discuss amendments to its pending license application for the Ashton Dam Hydroelectric Project (P-14634-002). The project would be located on the Blackstone River, near the Towns of Cumberland and Lincoln, Providence County, Rhode Island. NEHC states that it is now proposing to install submersible Kaplan turbine-generator units instead of the Archimedes Screw turbine-generator units proposed in the license application. NEHC also states that it is proposing to convert its pending license application to an application for a small hydroelectric (10 megawatt or less) exemption from licensing. NEHC is requesting a conference call with Commission staff to “lay out a process and schedule” for these changes.

d. Proposed Agenda: (1) Introduction of participants; (2) NEHC presentation on purpose of meeting; (3) Discussion on NEHC's proposed changes and schedule; and (4) Meeting conclusion.

e. A summary of the meeting will be prepared and filed in the Commission's public file for the project.

f. All local, state, and federal agencies, Indian tribes, and other interested parties are invited to participate by phone. If interested, please contact John Baummer at john.baummer@ferc.gov or (202) 502-6837, by June 01, 2020, to receive the conference call number and access code.

Dated: May 27, 2020.
Kimberly D. Bose,
Secretary.

[FR Doc. 2020-11871 Filed 6-1-20; 8:45 am]

BILLING CODE 6717-01-P